DEPARTMENT OF HOMELAND SECURITY

Coast Guard

33 CFR Part 155

[USCG-1998-3417]

RIN 1625-AA19

Salvage and Marine Firefighting Requirements; Vessel Response Plans for Oil

AGENCY: Coast Guard, DHS.

ACTION: Rule; information collection approval; clarification.

SUMMARY: On September 3, 2010, the Coast Guard announced the Office of Management and Budget (OMB) approval of the information collection associated with the vessel response plan salvage and marine firefighting requirements for tank vessels carrying oil. That announcement indicated that the collection of information requirements would be enforced beginning September 3, 2010. This document clarifies that although OMB has approved the information collection, the compliance date for updates to vessel response plans required by the Salvage and Marine Firefighting final rule remains February 22, 2011.

DATES: The collection of information approved under OMB Control Number 1625-0066 became enforceable beginning September 3, 2010. The compliance date for updates to vessel response plans required by the Salvage and Marine Firefighting final rule remains February 22, 2011.

FOR FURTHER INFORMATION CONTACT: If you have questions on this document contact Lieutenant Commander Ryan Allain at 202-372-1226 or Ryan.D.Allain@uscg.mil. If you have questions on viewing the docket (USCG-1998-3417), call Ms. Renee V. Wright, Program Manager, Docket Operations, telephone 202-366-9826.

SUPPLEMENTARY INFORMATION: On December 31, 2008, the Coast Guard published a final rule entitled “Salvage and Marine Firefighting Requirements; Vessel Response Plans for Oil” (73 FR 80618). The final rule amended the vessel response plan salvage and marine firefighting requirements for tank vessels carrying oil. The final rule included information collection requirements affecting OMB Control Number 1625-0066 that could not be enforced without approval by OMB. In the final rule the Coast Guard stated that it would publish notice in the Federal Register announcing OMB's decision to approve, modify, or disapprove the collection.

On August 31, 2009, the Coast Guard published another final rule concerning vessel response plans, “Vessel and Facility Response Plans for Oil: 2003 Removal Equipment Requirements and Alternative Technology Revisions” (74 FR 45004). One of the effects of this rule was to defer the compliance date for the salvage and marine firefighting requirements from June 1, 2010, to February 22, 2011.

The information collection associated with OMB Control Number 1625-0066 affects a variety of vessel response plans, not just salvage and marine firefighting requirements. On August 20, 2010, OMB approved the Coast Guard's requested revisions to OMB Control Number 1625-0066, and on September 3, 2010, the Coast Guard published a notice announcing this approval (75 FR 54026). OMB approval of this information collection does not alter the existing compliance date for vessel response plan salvage and marine firefighting requirements for tank vessels carrying oil.

Dated: September 9, 2010.
Kathryn Sinniger,
Acting Chief, Office of Regulations and Administrative Law.

[FR Doc. 2010-22932 Filed 9-14-10; 8:45 am]

BILLING CODE 9110-04-P